COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: November 24, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 9/13/2024 (89 FR 74928) and 9/20/2024 (89 FR 77109), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

2540-00-248-4603—Blade, Windshield Wiper, HMMW Vehicle, 18″L

2540-01-262-7708—Blade, Windshield Wiper, HMMW Vehicle, 20″L

2540-01-271-8026—Blade, Windshield Wiper, HMMW Vehicle, 16″L

2540-01-454-0415—Blade, Refill, Windshield Wiper, HMMW Vehicle, 20″L

Authorized Source of Supply: Georgia Industries for the Blind, Bainbridge, GA

Contracting Activity: DLA LAND AND MARITIME, COLUMBUS, OH

Service(s)

Service Type: Mailing Service

Mandatory for: US Army Corp of Engineers, Patrick V. McNamara Federal Building, Detroit, MI

Authorized Source of Supply: Gesher Human Services, Southfield, MI

Contracting Activity: DEPT OF THE ARMY, W072 ENDIST DETROIT

Service Type: Administrative Services

Mandatory for: Post Wide, Fort Campbell, KY

Authorized Source of Supply: Huntsville Rehabilitation Foundation, Inc., Huntsville, AL

Contracting Activity: DEPT OF THE ARMY, W6QM MICC-FT CAMPBELL

Service Type: Custodial Service

Mandatory for: US Army, Asymmetric Warfare Training Center, Fort A.P. Hill, VA

Authorized Source of Supply: Rappahannock Goodwill Industries, Inc., Fredericksburg, VA

Contracting Activity: DEPT OF THE ARMY, W6QK ACC-APG

Service Type: Military Environment Support

Mandatory for: US Army, Program Executive Office for Simulation, Training and Instrumentation, Orlando, FL

Authorized Source of Supply: Global Connections to Employment, Inc., Pensacola, FL

Contracting Activity: DEPT OF THE ARMY, W6QK ACC-ORLANDO

Service Type: Hospital Housekeeping

Mandatory for: Department of Veterans Affairs, VA Maryland Health Care System, 10 North Greene Street, Baltimore, MD

Authorized Source of Supply: Global Connections to Employment, Inc., Pensacola, FL

Contracting Activity: VETERANS AFFAIRS, DEPARTMENT OF, 613-MARTINSBURG (00613)

Service Type: Custodial Service

Mandatory for: Department of Veterans Affairs, Veteran Affairs Outpatient Clinic, Charlotte, NC

Authorized Source of Supply: OE Enterprises, Inc., Hillsborough, NC

Contracting Activity: VETERANS AFFAIRS, DEPARTMENT OF, 246-NETWORK CONTRACTING OFFICE 6

Service Type: Laundry Service

Mandatory for: US Army, Mission and Installation Contracting Command, Fort Belvoir, VA

Authorized Source of Supply: Louise W. Eggleston Center, Inc., Norfolk, VA

Contracting Activity: DEPT OF THE ARMY, W6QM MICC-FT BELVOIR

Service Type: Laundry Service

Mandatory for: US Army, Medical Research Institute of Chemical Defense, Chemical Casualty Care Division, Aberdeen Proving Ground-South, MD

Authorized Source of Supply: Elwyn of Pennsylvania and Delaware, Aston, PA

Contracting Activity: DEPT OF THE ARMY, W4PZ USA MED RSCH ACQUIS ACT

Service Type: Custodial Service

Mandatory for: US Army Reserve, Wetzel County Memorial USARC, New Martinsville, WV

Authorized Source of Supply: PACE Enterprises of West Virginia, Inc., Morgantown, WV

Contracting Activity: DEPT OF THE ARMY, W6QK ACC-PICA

Service Type: Custodial & Grounds Maintenance

Mandatory for: US Army Reserve, CPT Alden D. Allen Armed Forces Reserve Center, Horseheads, NY

Authorized Source of Supply: Mozaic Chapter, NYSARC, Inc., Waterloo, NY

Contracting Activity: DEPT OF THE ARMY, W6QK ACC-PICA

Service Type: Laundry Service

Mandatory for: US Army, Joint Base Myer-Henderson Hall, Arlington, VA

Authorized Source of Supply: Louise W. Eggleston Center, Inc., Norfolk, VA

Contracting Activity: DEPT OF THE ARMY, W6QM MICC-FT BELVOIR

Service Type: Mess Attendant Service

Mandatory for: US Air Force, 128th Air Refueling Wing, Wisconsin Air National Guard Dining Facility, Milwaukee, WI

Authorized Source of Supply: Ada S. McKinley Community Services, Inc., Chicago, IL

Contracting Activity: DEPT OF THE ARMY, W7N8 USPFO ACTIVITY WI ARNG

Service Type: Food Service Attendant

Mandatory for: US Air Force, 182nd Airlift Wing, Illinois Air National Guard Reserve Center, Peoria, IL

Authorized Source of Supply: Community Workshop and Training Center, Inc., Peoria, IL

Contracting Activity: DEPT OF THE ARMY, W7M6 USPFO ACTIVITY IL ARNG

Service Type: Janitorial/Custodial

Mandatory for: US Army Reserve, Prince George's County Memorial USARC, 6601 Baltimore Avenue, Riverdale, MD

Mandatory for: US Army Reserve, Southern Maryland Memorial USARC, 5550 Dowerhouse Road, Upper Marlboro, MD

Authorized Source of Supply: WeAchieve, Inc., Silver Spring, MD

Contracting Activity: DEPT OF THE ARMY, W6QK ACC-PICA

Service Type: Administrative Support Service

Mandatory for: Department of Veterans Affairs, Atlanta VA Medical Center, Health Administrative Services Office, Decatur, GA

Authorized Source of Supply: Bobby Dodd Institute, Inc., Atlanta, GA

Contracting Activity: VETERANS AFFAIRS, DEPARTMENT OF, 247-NETWORK CONTRACT OFC 7(00247)

Service Type: Custodial Services

Mandatory for: Department of Veterans Affairs, York Community Based Outpatient Clinic, York, PA

Authorized Source of Supply: Goodwill Services, Inc., Harrisburg, PA

Contracting Activity: VETERANS AFFAIRS, DEPARTMENT OF, 595-LEBANON

Service Type: Grounds & Cemetery Facilities Maintenance

Mandatory for: US Army, Fort McClellan Veterans and Prisoner of War Cemeteries, Fort McClellan, AL

Authorized Source of Supply: The Opportunity Center Easter Seal Facility—The Ala ES Soc, Inc., Anniston, AL

Contracting Activity: DEPT OF THE ARMY, W0LX ANNISTON DEPOT PROP DIV

Service Type: Custodial Services

Mandatory for: Department of Veterans Affairs, Mid-South Consolidated Mail Outpatient Pharmacy, 5171 Sam Jared Drive, Murfreesboro, TN

Authorized Source of Supply: Bobby Dodd Institute, Inc., Atlanta, GA

Contracting Activity: VETERANS AFFAIRS, DEPARTMENT OF, NATIONAL CMOP OFFICE (NCO)

Service Type: Laundry Service

Mandatory for: US Air force, Hazardous Waste Recycling Facility, Hill Air Force Base, Hill AFB, UT

Authorized Source of Supply: EnableUtah, Ogden, UT

Contracting Activity: DEPT OF THE AIR FORCE, FA8224 OL H PZI PZIM

Service Type: Administrative Services

Mandatory for: U.S. Army Corps of Engineers, Nashville District: Estes Kefauver Building & Adjacent Buildings

Contracting Activity: DEPT OF THE ARMY, W072 ENDIST NASHVILLE

Michael R. Jurkowski,
Director, Business Operations.

[FR Doc. 2024-24875 Filed 10-24-24; 8:45 am]

BILLING CODE 6353-01-P